DEPARTMENT OF LABOR

Employment and Training Administration

[NAFTA-06385]

Ameriphone, Inc., a Wholly Owned Subsidiary of Plantronics, Inc., Garden Grove, California; Notice of Revised Determination on Remand

The United States Court of International Trade (USCIT) granted the Secretary of Labor's motion for a voluntary remand for further investigation in Former Employees of Ameriphone, Inc. v. U.S. Secretary of Labor (Court No. 03-00243).

The Department's initial denial of NAFTA-Transitional Adjustment Assistance (NAFTA-6385) for the workers of Ameriphone, Inc., a wholly owned subsidiary of Plantronics, Inc., Garden Grove, California (hereafter “Ameriphone”), was issued on September 11, 2002 and published in the Federal Register on September 27, 2002 (67 FR 61160). The denial was based on the finding that the workers at the subject facility did not produce an article as required by section 250 of the Trade Act of 1974.

On March 10, 2003, the Department issued a Notice of Negative Determination Regarding Application for Reconsideration for NAFTA-6385 and published in the Federal Register on March 18, 2003 (68 Fed. Reg. 12938).

In the request for reconsideration, the petitioner alleged that the workers were engaged in the final phase of production (inspecting, testing and modifying products) as well as prototype design and production. In the reconsideration investigation, the Department found that the articulated functions constituted a negligible portion of the work performed at the subject facility and that the workers were, in fact, service providers.

On voluntary remand, the Department contacted the company and requested detailed information regarding the workers' functions at the subject facility. The newly obtained information revealed that workers at the subject facility were engaged in production. The new information also revealed that a significant portion of the production performed at the subject facility was shifted to Mexico impacting workers at the subject plant.

Conclusion

After careful review of the additional facts obtained on remand, I conclude that a shift of production to Mexico of products like or directly competitive with those produced at the subject firm contributed importantly to the declines in sales or production and to the total or partial separation of workers of Ameriphone, Inc., Garden Grove, California. In accordance with the provisions of the Act, I make the following certification:

“All workers of Ameriphone, Inc., a wholly owned subsidiary of Plantronics, Inc., Garden Grove, California, who became totally or partially separated from employment on or after June 24, 2001 through two years of this certification, are eligible to apply for NAFTA-TAA under section 250 of the Trade Act of 1974.”

Signed at Washington, DC this 18th day of August 2003.
Elliott S. Kushner,
Certifying Officer, Division of Trade Adjustment Assistance.

[FR Doc. 03-23730 Filed 9-16-03; 8:45 am]

BILLING CODE 4510-30-P